NUCLEAR REGULATORY COMMISSION

10 CFR Part 73

[NRC-2011-0018; NRC-2011-0014; NRC-2011-0015; NRC-2011-0017]

RIN 3150-AI49

Enhanced Weapons, Firearms Background Checks, and Security Event Notifications

AGENCY: Nuclear Regulatory Commission.

ACTION: Proposed rule: Extension of comment period.

SUMMARY: On February 3, 2011 (76 FR 6200), the Nuclear Regulatory Commission (NRC or the Commission) published a proposed rule [NRC-2011-0018] for a 90-day public comment period that would implement its authority under the new Section 161A of the Atomic Energy Act of 1954 (AEA), as amended, and revise existing regulations governing security event notifications. These proposed regulations are consistent with the provisions of the Firearms Guidelines the NRC published under Section 161A with the approval of the U.S. Attorney General on September 11, 2009 (74 FR 46800). In addition, the NRC proposed revisions addressing security event notifications from different classes of facilities and the transportation of radioactive material and would add new event notification requirements on the theft or loss of enhanced weapons.

Concurrent with the amendments described in this proposed rule, the NRC published for comment the draft “Weapons Safety Assessment” (76 FR 6087) [NRC-2011-0017], the draft Regulatory Guide DG-5020, “Applying for Enhanced Weapons Authority, Applying for Preemption Authority, and Accomplishing Firearms Background Checks under 10 CFR Part 73” (76 FR 6086) [NRC-2011-0015], and the revised Regulatory Guide DG-5019, “Reporting and Recording Safeguards Events” (76 FR 6085) [NRC-2011-0014]. A 90-day comment period was provided for the proposed rule, the weapons safety assessment, and the associated regulatory guidance documents that would have expired on May 4, 2011.

The NRC is extending the comment period submittal deadline by an additional 90 days for the proposed rule, the associated regulatory guidance documents, and the weapons safety assessment from the original May 4, 2011, deadline to August 2, 2011.

DATES: The comment period for the proposed rule, the draft weapons safety assessment, and the draft regulatory guides (DG-5019 and DG-5020) has been extended and now expires on August 2, 2011. Comments received after this date will be considered if it is practical to do so, but the Commission is able to ensure consideration only for comments received before this date.

ADDRESSES: Please include the applicable Docket ID: NRC-2011-0018 (proposed rule); NRC-2011-0014 (DG-5019); NRC-2011-0015 (DG-5020); or NRC-2011-0017 (draft weapons safety assessment) in the subject line of your comments. Comments submitted in writing or in electronic form will be posted on the NRC Web site and on the Federal rulemaking Web site http://www.Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments on the proposed rule [NRC-2011-0018] by any one of the following methods:

• Federal rulemaking Web site: Go to http://www.regulations.gov and search for documents filed under the applicable Docket ID: NRC-2011-0018. Address questions about NRC dockets to Carol Gallagher, telephone: 301-492-3668; e-mail: Carol.Gallagher@nrc.gov.

• Mail comments to: Secretary, U.S. Nuclear Regulatory Commission, Washington, DC 20555-0001, ATTN: Rulemakings and Adjudications Staff.

• E-mail comments to: Rulemaking.Comments@nrc.gov. If you do not receive a reply e-mail confirming that we have received your comments, contact us directly at 301-415-1677.

• Hand deliver comments to: 11555 Rockville Pike, Rockville, Maryland 20852, between 7:30 am and 4:15 pm Federal workdays, (telephone: 301-415-1677).

• Fax comments to: Secretary, U.S. Nuclear Regulatory Commission at 301-415-1101.

You may submit comments on DG-5019 [NRC-2011-0014]; DG-5020 [NRC-2011-0015]; or the draft weapons safety assessment [NRC-2011-0017] by any one of the following methods:

• Federal rulemaking Web site: Go to http://www.regulations.gov and search for documents filed under Docket ID NRC-2011-0014 (DG-5019); NRC-2011-0015 (DG-5020); or NRC-2011-0017 (draft weapons safety assessment). Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

Fax comments to: RADB at 301-492-3446.

You can access publicly available documents related to the proposed rule and draft regulatory guides documents using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available electronically at the NRC's Electronic Reading Room at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to the proposed rule and draft regulatory guides can be found at http://www.regulations.gov by searching the applicable Docket ID: NRC-2011-0018 (proposed rule); NRC-2011-0014 (DG-5019); NRC-2011-0015 (DG-5020); or NRC-2011-0017 (draft weapons safety assessment).

FOR FURTHER INFORMATION CONTACT: Mr. Robert Beall, Office of Nuclear Reactor Regulation, U.S. Nuclear Regulatory Commission, Washington, DC 20555-0001; telephone 301-415-3874; e-mail: Robert.Beall@nrc.gov; or Mr. Philip Brochman, Office of Nuclear Security and Incident Response, U.S. Nuclear Regulatory Commission, Washington, DC 20555-0001; telephone 301-415-6557; e-mail: Phil.Brochman@nrc.gov.

SUPPLEMENTARY INFORMATION: On February 16, 2011, the NRC received a letter (ADAMS Accession Number ML110480470) requesting that the comment period for the proposed rule, the draft weapons safety assessment, and the draft regulatory guides be extended. The request was to extend the comment period by an additional 90 days for a total of 180 days. The requestor states they are coordinating the industry comments on the proposed ruling and associated documents to ensure that the comments are of high quality and that they reflect a consensus industry perspective. They also state that the comment period provided in the February 3, 2011, Federal Register notice is insufficient, given the complexity of the topical area and the number of documents associated with the rule. The requester states that extending the comment period would provide the time necessary to more fully assess the content of the proposed ruling and associated documents and arrive at a set of comments that are of value to the NRC staff.

The NRC's objective is to ensure the public and other stakeholders have a reasonable opportunity to provide the NRC with comments on this proposed action that will improve the quality of these regulations and the supporting guidance documents. The NRC acknowledges this is a new area of regulation and that a significant quantity of information must be reviewed by the public and other stakeholders. Accordingly, the NRC is extending the comment period for the proposed rulemaking, the draft regulatory guides, and the draft weapons safety assessment for an additional 90 days. Based on feedback from stakeholders, the NRC believes that a 90-day extension provides a reasonable opportunity for all stakeholders to review these documents and to develop informed comments on these documents.

Accordingly, the NRC is extending the comment submittal deadlines for the proposed rule, the draft weapons safety assessment, and the two draft regulatory guides (DG-5019 and DG-5020) from May 4, 2011, to August 2, 2011.

Dated at Rockville, Maryland, this 21st day of April 2011.
For the Nuclear Regulatory Commission.
Annette L. Vietti-Cook,
Secretary of the Commission.

[FR Doc. 2011-10163 Filed 4-26-11; 8:45 am]

BILLING CODE 7590-01-P